DEPARTMENT OF ENERGY

Office of Fossil Energy

[FE Docket Nos. 04-75-NG, 04-76-NG, 04-77-NG, 04-39-LNG, 04-40-LNG, 04-80-NG, 04-78-NG, 04-81-NG, 04-82-NG]

Alcoa Inc., IGI Resources, Inc., BP Energy Company, BG LNG Services, LLC, BG LNG Services, LLC, Union Gas Limited, Select Energy, Inc., Concord Energy LLC, Central Valle Hermoso, S.A. de C.V.; Orders Granting and Amending Authority To Import and Export Natural Gas

AGENCY: Office of Fossil Energy, DOE.

ACTION: Notice of orders.

SUMMARY: The Office of Fossil Energy (FE) of the Department of Energy gives notice that during August 2004, it issued Orders granting authority to import and export natural gas. These Orders are summarized in the attached appendix and may be found on the FE Web site at http://www.fe.doe.gov (select gas regulation). They are also available for inspection and copying in the Office of Natural Gas Regulatory Activities, Docket Room 3E-033, Forrestal Building, 1000 Independence Avenue, SW., Washington, DC 20585, (202) 586-9478. The Docket Room is open between the hours of 8 a.m. and 4:30 p.m., Monday through Friday, except Federal holidays.

Issued in Washington, DC, on September 3, 2004.
Yvonne Caudillo,
Acting Manager, Natural Gas Regulatory Activities, Office of Oil and Gas Global Security and Supply, Office of Fossil Energy.

Appendix; Orders Granting and Amending Import/Export Authorizations

DOE/FE Authority
Order No. | Date issued | Importer/Exporter FE docket No. | Import volume | Export volume | Comments
2007 | 8-2-04 | Alcoa Inc., 04-75-NG | 15 Bcf |  | Import natural gas from Canada, beginning on May 1, 2004, and extending through April 30, 2006.
2008 | 8-2-04 | IGI Resources, Inc., 04-76-NG | 400 Bcf |  | Import natural gas from Canada, beginning on August 1, 2004, and extending through July 31, 2006.
2009 | 8-4-04 | BP Energy Company, 04-77-NG | 1200 Bcf |  | Import liquefied natural gas from various international sources, beginning on August 22, 2004, and extending through August 21, 2006.
1977-A | 8-17-04 | BG LNG Services, LLC, 04-39-LNG |  |  | Amendment to long-term authority to include the requirement of country of origin.
1975-A | 8-17-04 | BG LNG Services, LLC, 04-40-LNG |  |  | Amendment to long-term authority to include the requirement of country of origin.
2010 | 8-13-04 | Union Gas Limited, 04-80-NG | 216 Bcf |  | Import and export a combined total of natural gas from and to Canada, beginning on August 15, 2004, and continuing through August 14, 2006.
2011 | 8-17-04 | Select Energy, Inc., 04-78-NG | 100 Bcf |  | Import and export a combined total of natural gas from and to Canada, beginning on August 17, 2004, and continuing through August 16, 2006.
2012 | 8-19-04 | Concord Energy LLC, 04-81-NG | 100 Bcf |  | Import and export a combined total of natural gas from and to Canada, beginning on September 1, 2004, and continuing through August 31, 2006.
2013 | 8-24-04 | Central Valle Hermoso, S.A. de C.V., 04-82-NG | 30 Bcf |  | Import and export a combined total of natural gas from and to Mexico, beginning on September 5, 2004, and continuing through September 4, 2006.

[FR Doc. 04-21056 Filed 9-17-04; 8:45 am]

BILLING CODE 6450-01-P